DEPARTMENT OF HEALTH AND HUMAN SERVICES

Health Resources and Services Administration

National Advisory Committee on Rural Health and Human Services; Notice of Meeting

In accordance with section 10(a)(2) of the Federal Advisory Committee Act (Public Law 92-463), notice is hereby given that the following committee will convene its forty-fourth meeting.

Name: National Advisory Committee on Rural Health and Human Services.

Dates and Times: June 8, 2003, 1 p.m.-4:30 p.m.; June 9, 2003, 8 a.m.-5 p.m.; June 10, 2003, 8 a.m.-10:30 a.m.

Places: The Westin Riverwalk, 420 Market Street, San Antonio, TX 78205, and Holiday Inn, 920 E. Main, Uvalde, TX 78801.

Status: The meeting will be open to the public.

Purpose: The National Advisory Committee on Rural Health and Human Services provides advice and recommendations to the Secretary with respect to the delivery, research, development and administration of health and human services in rural areas.

Agenda: Sunday, June 8, at 1 p.m. at The Westin Riverwalk the Chairperson, the Honorable David Beasley, will open the meeting and welcome the Committee. The first session will open with a discussion of the Committee business and a review of the 2004 workplan by The Honorable David Beasley and the Office of Rural Health Policy (ORHP) Acting Deputy Director, Mr. Tom Morris. This will be followed by a dialogue about the broad health and human services issues in Texas. The Committee will break into workgroups for an in-depth discussion on the three topics for the 2004 workplan: the elderly, oral health, and the integration of primary care and behavioral health.

Monday, June 9, the Committee will depart from the Holiday Inn at 9 a.m. for a site visit of the Uvalde Health Center's Oral Health Unit. Transportation will not be provided to the public. The next session will begin at 10:30 a.m. at the Holiday Inn and will consist of presentations on aging issues and the integration of behavioral health and primary health care. Afterward, the Committee will again break into three subgroups.

The final session will be convened Tuesday, June 10, at 8 a.m at the Holiday Inn. The Committee will review the site visit and draft an outline for the 2004 report. The meeting will conclude with a discussion of the upcoming September meeting, and will adjourn at 10:30 a.m.

For Further Information Contact: Anyone requiring information regarding the Committee should contact Tom Morris, MPA, Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: May 1, 2003.
Jane M. Harrison,
Director, Division of Policy Review and Coordination.

[FR Doc. 03-11286 Filed 5-6-03; 8:45 am]

BILLING CODE 4165-15-P